DEPARTMENT OF THE TREASURY

Alcohol and Tobacco Tax and Trade Bureau

27 CFR Part 19

[Notice No. 86; Re: Notice No. 83; Docket No. TTB-2008-0004]

RIN 1513-AA23

Proposed Revision of Distilled Spirits Plant Regulations (2001R-194P)

AGENCY: Alcohol and Tobacco Tax and Trade Bureau, Treasury.

ACTION: Notice of proposed rulemaking; extension of comment period.

SUMMARY: In response to an industry member request, the Alcohol and Tobacco Tax and Trade Bureau extends the comment period for Notice No. 83, Proposed Revision of Distilled Spirits Plant Regulations, a notice of proposed rulemaking published in the Federal Register on May 8, 2008, for an additional 90 days.

DATES: Written comments on Notice No. 83 must now be received on or before November 5, 2008.

ADDRESSES: You may send comments on Notice No. 83 to one of the following addresses:

• http://www.regulations.gov (via the online comment form for this notice as posted within Docket No. TTB-2008-0004 on Regulations.gov, the Federal e-rulemaking portal); or

• Mail: Director, Regulations and Rulings Division, Alcohol and Tobacco Tax and Trade Bureau, P.O. Box 14412, Washington, DC 20044-4412; or

• Hand Delivery/Courier in lieu of Mail: Alcohol and Tobacco Tax and Trade Bureau, 1310 G Street, NW., Suite 200-E, Washington, DC 20005.

See the Public Participation section of this notice for specific instructions and requirements for submitting comments, and for information on how to request a public hearing.

You may view copies of this notice, Notice No. 83, and any comments we receive about Notice No. 83 at http://www.regulations.gov. A direct link to the appropriate Regulations.gov docket is available under Notice No. 83 on the TTB Web site at http://www.ttb.gov/spirits/spirits_rulemaking.shtml. You also may view copies of this notice, Notice No. 83, and any comments we receive about Notice No. 83 by appointment at the TTB Information Resource Center, 1310 G Street, NW., Washington, DC 20220. To make an appointment, call 202-927-2400.

FOR FURTHER INFORMATION CONTACT: Daniel J. Hiland, Regulations and Rulings Division, Alcohol and Tobacco Tax and Trade Bureau, 1310 G Street NW., Suite 200-E, Washington, DC 20220; telephone 202-927-8176.

SUPPLEMENTARY INFORMATION: On May 8, 2008, the Alcohol and Tobacco Tax and Trade Bureau (TTB) published Notice No. 83, Proposed Revision of Distilled Spirits Plant Regulations, in the Federal Register (73 FR 26200). In that notice of proposed rulemaking, TTB requested public comment on its proposed comprehensive revision of the regulations governing distilled spirits plants. The 90-day comment period for Notice No. 83, when published, was scheduled to close on August 6, 2008.

After publication of Notice No. 83, TTB received a request from E. & J. Gallo Winery to extend the comment period for Notice No. 83 for an additional 120 days. Gallo, which operates three distilled spirits plants in California in addition to its wineries, noted in support of its request that it is preparing for the upcoming harvest season, “the busiest and most important months of the year for our company.” As a result, Gallo noted that it would be difficult for the company to focus its attention on the complexities of the proposed rule.

In response to this request, TTB extends the comment period for Notice No. 83 for an additional 90 days, which together with the original 90-day comment period will leave Notice No. 83 open to public comment for 6 months. We believe this time period will allow industry members and the public to fully consider the proposals outlined in Notice No. 83. Therefore, comments on Notice No. 83 are now due on or before November 5, 2008.

Drafting Information: Michael D. Hoover of the Regulations and Rulings Division drafted this notice.

Signed: July 29, 2008.
John J. Manfreda,
Administrator.

[FR Doc. E8-17676 Filed 7-31-08; 8:45 am]

BILLING CODE 4810-31-P